ENVIRONMENTAL PROTECTION AGENCY

40 CFR Part 59

[EPA-HQ-OAR-2006-0971; FRL-12710-01-OAR]

RIN 2060-AW62

National Volatile Organic Compound Emission Standards for Aerosol Coatings: Interim Final Rule

AGENCY: Environmental Protection Agency (EPA).

ACTION: Interim Final Rule; request for comment.

SUMMARY: The U.S. Environmental Protection Agency (EPA) is taking interim final action to revise the compliance deadline in recent amendments to the National Volatile Organic Compound Emission Standards for Aerosol Coatings under Clean Air Act (CAA) section 183(e). Specifically, the EPA is revising the compliance date for requirements amended in January 17, 2025, from July 17, 2025, to January 17, 2027. The EPA seeks comments on this targeted revision to the compliance date and will respond and update this interim final action as appropriate.

DATES: This rule is effective on July 2, 2025. Comments on this rule must be received on or before August 1, 2025.

ADDRESSES: Submit your comments, identified by Docket ID No. EPA-HQ-OAR-2006-0971 by any of the following methods:

• Federal eRulemaking Portal: https://www.regulations.gov (our preferred method). Follow the online instructions for submitting comments.

• Email: a-and-r-docket@epa.gov. Include Docket ID No. EPA-HQ-OAR-2006-0971 in the subject line of the message.

• Fax: (202) 566-9744. Attention Docket ID No. EPA-HQ-OAR-2006-0971.

• Mail: U.S. Environmental Protection Agency, EPA Docket Center, Docket ID No. EPA-HQ-OAR-2006-0971, Mail Code 28221T, 1200 Pennsylvania Avenue NW, Washington, DC 20460.

• Hand/Courier Delivery: EPA Docket Center, WJC West Building, Room 3334, 1301 Constitution Avenue NW, Washington, DC 20004. The Docket Center's hours of operation are 8:30 a.m.-4:30 p.m., Monday-Friday (except Federal holidays).

Instructions. All submissions received must include the Docket ID No. EPA-HQ-OAR-2006-0971 for this rulemaking. Comments received may be posted without change to https://www.regulations.gov, including any personal information provided. For detailed instructions on sending comments and additional information on the rulemaking process, see the SUPPLEMENTARY INFORMATION section of this document.

FOR FURTHER INFORMATION CONTACT: For information about the National Volatile Organic Compound Emission Standards for Aerosol Coatings, contact Kaye Whitfield, U.S. EPA, Office of Air Quality Planning and Standards, Sector Policies and Programs Division, Minerals and Manufacturing Group (D243-02), 109 T.W. Alexander Drive, P.O. Box 12055, Research Triangle Park, North Carolina 27711; telephone number: (919) 541-2509; and email address: whitfield.kaye@epa.gov.

SUPPLEMENTARY INFORMATION:

Public Participation. Submit your written comments, identified by Docket ID No. EPA-HQ-OAR-2006-0971 at https://www.regulations.gov (our preferred method) or by the other methods identified in the ADDRESSES section. Once submitted, comments cannot be edited or removed from the docket. The EPA may publish any comment received to its public docket. Do not submit to the EPA's docket at https://www.regulations.gov any information you consider to be Confidential Business Information (CBI) or other information whose disclosure is restricted by statute. This type of information should be submitted as discussed in the Submitting CBI section of this document. Multimedia submissions (audio, video, etc.) must be accompanied by a written comment. The written comment is considered the official comment and should include discussion of all points you wish to make. The EPA will generally not consider comments or comment contents located outside of the primary submission (i.e., on the web, cloud, or other file sharing system). Please visit https://www.epa.gov/dockets/commenting-epa-dockets for additional submission methods; the full EPA public comment policy; information about CBI or multimedia submissions; and general guidance on making effective comments.

Submitting CBI. Do not submit information containing CBI to the EPA through https://www.regulations.gov. Clearly mark the part or all the information that you claim to be CBI. For CBI information on any digital storage media that you mail to the EPA, note the docket ID, mark the outside of the digital storage media as CBI, and identify electronically within the digital storage media the specific information that is claimed as CBI. In addition to one complete version of the comments that includes information claimed as CBI, you must submit a copy of the comments that does not contain the information claimed as CBI directly to the public docket through the procedures outlined in the Public Participation section of this document. If you submit any digital storage media that does not contain CBI, mark the outside of the digital storage media clearly that it does not contain CBI and note the docket ID. Information not marked as CBI will be included in the public docket and the EPA's electronic public docket without prior notice. Information marked as CBI will not be disclosed except in accordance with procedures set forth in 40 Code of Federal Regulations (CFR) part 2.

Our preferred method to receive CBI is for it to be transmitted electronically using email attachments, File Transfer Protocol (FTP), or other online file sharing services (e.g., Dropbox, OneDrive, Google Drive). Electronic submissions must be transmitted directly to the Office of Air Quality Planning and Standards (OAQPS) CBI Office at the email address oaqpscbi@epa.gov, and as described above, should include clear CBI markings and note the docket ID. If assistance is needed with submitting large electronic files that exceed the file size limit for email attachments, and if you do not have your own file sharing service, please email oaqpscbi@epa.gov to request a file transfer link. If sending CBI information through the U.S. Postal Service, please send it to the following address: OAQPS Document Control Officer (C404-02), OAQPS, U.S. Environmental Protection Agency, 109 T.W. Alexander Drive, P.O. Box 12055, Research Triangle Park, North Carolina 27711, Attention Docket ID No. EPA-HQ-OAR-2006-0971. The mailed CBI material should be double wrapped and clearly marked. Any CBI markings should not show through the outer envelope.

Preamble acronyms and abbreviations. Throughout this document the use of “we,” “us,” or “our” is intended to refer to the EPA. We use multiple acronyms and terms in this preamble. While this list may not be exhaustive, to ease the reading of this preamble and for reference purposes, the EPA defines the following terms and acronyms here:

APA Administrative Procedure Act

ACA American Coatings Association

CAA Clean Air Act

CBI Confidential Business Information

CFAR Coalition for Fair Aerosol Regulation

CFR Code of Federal Regulations

CRA Congressional Review Act

EPA Environmental Protection Agency

NTTAA National Technology Transfer and Advancement Act

OAQPS Office of Air Quality Planning and Standards

OMB Office of Management and Budget

PRA Paperwork Reduction Act

RF Reactivity Factor

RFA Regulatory Flexibility Act

UMRA Unfunded Mandates Reform Act

Organization of this document. The information in this preamble is organized as follows:

I. General Information

A. Potentially Affected Entities

B. Statutory Authority

C. Judicial Review and Administrative Review

II. Regulatory Revisions

A. Background and Summary

B. Specific Regulatory Revisions

III. Rulemaking Procedures

IV. Request for Comment

V. Statutory and Executive Order Reviews

A. Executive Orders 12866: Regulatory Planning and Review and Executive Order 13563: Improving Regulation and Regulatory Review

B. Executive Order 14192: Unleashing Prosperity Through Deregulation

C. Paperwork Reduction Act (PRA)

D. Regulatory Flexibility Act (RFA)

E. Unfunded Mandates Reform Act (UMRA)

F. Executive Order 13132: Federalism

G. Executive Order 13175: Consultation and Coordination With Indian Tribal Governments

H. Executive Order 13045: Protection of Children From Environmental Health Risks and Safety Risks

I. Executive Order 13211: Actions Concerning Regulations That Significantly Affect Energy Supply, Distribution, or Use

J. National Technology Transfer and Advancement Act (NTTAA) and 1 CFR Part 51

K. Congressional Review Act (CRA)

I. General Information

A. Potentially Affected Entities

The entities potentially affected by this regulation encompass those engaged in many aspects of the manufacture and sale of aerosol coatings. This includes manufacturers, processors, wholesale distributors, or importers of aerosol coating products for sale or distribution in interstate commerce in the United States, or manufacturers, processors, wholesale distributors, or importers who supply the entities listed above with aerosol coatings for sale or distribution in interstate commerce in the United States. In addition, affected entities include those listed in the 2022 North American Industry Classification System codes 325510 and 325998. This list is not intended to be exhaustive but rather provides a guide for entities likely to be affected by this action. If you have any questions regarding the applicability of this action to a particular entity, consult the appropriate EPA contact listed in the FOR FURTHER INFORMATION CONTACT section of this preamble.

B. Statutory Authority

The statutory authority to issue the amendments finalized in this action is provided by the same CAA provisions that authorized the EPA to promulgate the regulations being amended: CAA sections 114 and 183b(e), 42 U.S.C. 7414, 7511b(e). Statutory authority for the rulemaking procedures followed in this action is provided by Administrative Procedure Act (APA) section 533b(B), 5 U.S.C. 533b(B).

C. Judicial Review and Administrative Review

Under CAA section 307(b)(1), judicial review of this final action is available only by filing a petition for review in the United States Court of Appeals for the District of Columbia Circuit by September 2, 2025. Under CAA section 307(b)(2), the requirements established by this final rule may not be challenged separately in any civil or criminal proceedings brought by the EPA to enforce the requirements.

II. Regulatory Revisions

A. Background and Summary

The EPA initially promulgated the “National Volatile Organic Compound Emission Standards for Aerosol Coatings” (aerosol coatings rule) on March 24, 2008 (73 FR 15604), and codified the action at 40 CFR part 59, subpart E (sections 59.500-59.516). The rule establishes nationwide VOC reactivity-based standards for the aerosol coatings source category under CAA section 183(e). As relevant here, CAA section 183(e) requires the EPA to control VOC emissions from certain categories of consumer and commercial products for purposes of reducing VOC emissions that contribute to ozone formation and nonattainment of the ozone national ambient air quality standards.

The EPA has amended the original aerosol coatings rule several times to respond to petitions and to make rule clarifications. Many of the amendments were made pursuant to a provision in 40 CFR 59.511(j) that allows regulated entities that elect against using the default reactivity factors (RF) to calculate product-weighted reactivity (PWR) limits to “petition the Administrator to add a compound to Table 2A, 2B, or 2C of this subpart.” Such petitions “must include the chemical name, CAS number, a statement certifying the intent to use the compound in an aerosol coatings product, and adequate information for the Administrator to evaluate the reactivity of the compound and assign a RF. . . .” Through this process, the EPA amended the aerosol coatings rule to move the applicability and initial compliance date for aerosol coatings, as specified in 40 CFR 59.501(c) and 59.502(a), from January 1, 2009, to July 1, 2009, and to require initial notification reports under 40 CFR 59.501(f)(3)(i), 59.511(b), and 59.511(e), to be due on the compliance date rather than 90 days in advance of the compliance date (73 FR 78994); and to add 131 compounds, corresponding RFs, and CAS numbers for each compound or class of compounds listed in 40 CFR part 59, table 2 (79 FR 29604).

As for rule clarifications, the EPA has made revisions that clarify which VOC are to be quantified in compliance determinations (79 FR 29604); to inform regulated entities that VOC normally exempt by definition under 40 CFR 51.100(s)(1) and (s)(5) must nevertheless be counted as VOC for the purposes determining compliance with the aerosol coatings rule (74 FR 29595); and to ensure that both the certifying entity and the regulated entity have full knowledge of responsibilities assumed by the certifying entity (74 FR 29595).

Most recently, on January 17, 2025, in response to petitions from the American Coatings Association (ACA), the EPA finalized amendments to the aerosol coatings rule that promoted consistency and uniformity, as appropriate, between the California Air Resources Board (CARB) Regulation for Reducing Ozone Formed from Aerosol Coating Product Emissions and the national aerosol coatings rule (90 FR 5697). In the January 17, 2015, final action, the EPA set a compliance date of July 17, 2025, for the amendments to the national aerosol coatings rule, based upon the Agency's then understanding of the lead time regulated entities would need to take actions to comply. Although some commenters had requested a later compliance date, the EPA did not have factual information to justify a later compliance date at that time. However, in response to commenters, the EPA made the effective date for the amendments to be the date of publication, i.e., January 17, 2025, for the benefit of regulated entities that elect to comply with the amended requirements of the aerosol coatings rule voluntarily in advance.

Following the issuance of the final rule, certain regulated entities expressed concern about the July 17, 2025, compliance date. On March 3, 2025, ACA sent a letter on behalf of its members notifying the EPA that it is not possible for some aerosol coatings manufacturers to comply with the amended rule by the current July 17, 2025, compliance date. On March 18, 2025, the EPA received a petition for review, reconsideration, and stay of the final rule from the Coalition for Fair Aerosol Regulation (CFAR) and Diamond Vogel, Inc. These Petitioners provided additional information supporting the need for additional time for compliance by certain regulated entities. Specifically, the Petitioners contend that significantly more time is required to reformulate, relabel, and communicate with suppliers, customers, and distributors. Petitioner Diamond Vogel indicated that it and its customers manufacture and package many different aerosol coatings products that will require reformulation and that this can be challenging and time consuming. In addition, the petitioner explained that it will need to undertake these actions for multiple products for itself and multiple customers simultaneously. The petitioner stated its belief that it will be able to reformulate the existing aerosol coatings products, but that this will require substantially more time. The CFAR and Diamond Vogel petition for reconsideration is in the docket for this action. This more detailed information concerning the time need for regulated entities to comply was not available to the EPA during the rulemaking for the January 17, 2025, amendments to the aerosol coatings rule.

After evaluation of the additional information, the EPA granted the petition for reconsideration by a letter dated April 3, 2025. In this interim final action, the EPA is changing the compliance date for the amendments to the aerosol coatings rule from July 17, 2025, to January 17, 2027.

B. Specific Regulatory Revisions

The regulatory revisions necessary to change the compliance dates associated with the standards in this rule (40 CFR part 59, subpart E) to January 17, 2027, are to amend 40 CFR 59.502 by revising paragraphs (a) and (d); 40 CFR 59.505 by revising paragraph (h); 40 CFR 59.509 by revising paragraph (g); 40 CFR 59.511 by revising paragraph (k); and 40 CFR 59.512 by revising paragraph (b), and to revise appendix A to subpart E of part 59. In addition, we are revising the titles in appendix A to subpart E of part 59, including table 1, table 2A, table 2B, table 2C, and table 3.

III. Rulemaking Procedures

As noted in section I.C. of this document, the EPA's authority for the rulemaking procedures followed in this action is provided by APA section 553(b)(B). This provision authorizes agencies to forego prior notice and comment “when the agency for good cause finds (and incorporates the finding and a brief statement of reasons, therefore, in the rule issued) that notice and public procedure thereon are impracticable, unnecessary, or contrary to the public interest.”

The EPA finds good cause to issue this notice without prior notice and comment because such procedures are impracticable. Specifically, there is insufficient time before the July 17, 2025, compliance date to address the new information submitted by Petitioners on compliance difficulties absent immediate action. The January 17, 2025, amendments to the aerosol coatings rule impose revised regulatory requirements on regulated entities. Although the information then available to the EPA indicated that the July 17, 2025, compliance date would provide sufficient time for regulated entities to comply with the amendments, the Agency subsequently received additional information concerning the time needed for compliance for many regulated entities. Specifically, information provided in the March 18, 2025 petition for reconsideration submitted by CFAR and Diamond Vogel, Inc. explains in detail the need for additional time for some regulated entities to reformulate products, to relabel containers, and to communicate changes with suppliers, customers, and distributors. This additional information provided by the Petitioners supports the need for extending the compliance date.

The compliance date is a significant element of any regulation, especially one that may require regulated entities to undertake time-consuming changes to products like aerosol coatings. Regulated entities may need significant time to initiate changes in advance of a compliance date given the interrelated steps discussed above. Because of the imminent July 17, 2025 compliance date, the EPA has determined that it would be impracticable to undertake prior notice and comment in the time available to provide regulated entities sufficient time to comply without unavoidable adverse consequences or potential inadvertent violations of the amended requirements.

The EPA has concluded based on information provided in the petition referenced above that meaningful compliance by some regulated entities will not be possible by the existing compliance deadline. This information was not available to the EPA in relevant part when it set the existing compliance deadline for the amendments to the aerosol coatings rule of July 17, 2025, and the existing compliance deadline does not meaningfully take these challenges into account. Under these circumstances, refraining from amending the compliance deadline before it goes into effect would needlessly put many regulated entities out of compliance and ultimately jeopardize the EPA's ability to work with regulated entities to achieve the protective outcomes envisioned in the aerosol coatings rule.

For the reasons discussed earlier in this document, this interim final rule is effective immediately upon publication. APA section 553(d) provides that final rules may become effective upon publication in the Federal Register if the rule “relieves a restriction,” is an interpretive rule or statement of policy, or if the agency otherwise finds “good cause” for doing so. 5 U.S.C. 553(d)(1)-(3). The purpose of this provision is “to give affected parties a reasonable time to adjust their behavior before the final rule takes effect.” Omnipoint Corp. v. FCC, 78 F.3d 620, 630 (D.C. Cir. 1996). In determining whether good cause exists to waive the 30-day delay, an agency should “balance the necessity for immediate implementation against principles of fundamental fairness which require all affected persons be afforded a reasonable amount of time to prepare for the effective date of its ruling.” Id. (citing United States v. Gavrilovic, 551 F.2d 1099, 1105 (8th Cir 1977)). The EPA has determined that there is good cause for making this final rule effective immediately under section 553(d) because it relieves obligations to achieve full compliance with the amended aerosol coating rule by the existing deadline. As such, regulated parties do not require additional time to adjust their behavior before this final rule goes into effect. For the same reasons, the rule also “relieves a restriction” under section 553(d)(1).

IV. Request for Comment

As explained in section III of this document, the EPA finds good cause to take this interim final action without prior notice or opportunity for public comment. However, the EPA is providing an opportunity for comment on extension of the compliance date for the amendments to the aerosol coating rule finalized on January 17, 2025, and requests comment on the revisions described in this rule. The EPA is not reopening for comment any provisions of the aerosol coatings final rule amendments other than the specific provisions that are expressly amended in this interim final rule. The EPA will review and respond to any comments received, including by making changes to this action if appropriate.

V. Statutory and Executive Order Reviews

Additional information about these statutes and Executive Orders can be found at https://www.epa.gov/laws-regulations/laws-and-executive-orders.

A. Executive Orders 12866: Regulatory Planning and Review and Executive Order 13563: Improving Regulation and Regulatory Review

This action is not a significant regulatory action and was therefore not submitted to the Office of Management and Budget (OMB) for review. In the amendments to the aerosol coatings final rule (90 FR 5697), the Agency estimated that there are no adverse economic impacts anticipated from compliance with that rule. However, Petitioners have requested that the Agency delay the compliance date from July 17, 2025, to January 17, 2027, suggesting that the revised compliance date may lead to a reduction in burden. Delaying the compliance date until January 17, 2027, could result in cost savings for any regulated entity that needs to reformulate their products and adapt their distribution methods to implement the requirements of the amendments in the final rule.

B. Executive Order 14192: Unleashing Prosperity Through Deregulation

This action is considered an Executive Order 14192 deregulatory action. This final rule provides burden reduction by delaying the compliance date to allow regulated entities additional time to come into compliance.

C. Paperwork Reduction Act (PRA)

The information collection does not impose any new information collection burden under the PRA. The Office of Management and Budget (OMB) has previously approved the information collection activities that apply to the regulated entities affected by this action and has assigned OMB control number 2060-0617. This action does not change the information collection requirements.

D. Regulatory Flexibility Act (RFA)

I certify that this action will not have a significant economic impact on a substantial number of small entities under the RFA. The EPA concludes that this rule will not have a significant economic impact on a substantial number of small entities because the rule has no net increase in burden on the small entities subject to the rule.

E. Unfunded Mandates Reform Act (UMRA)

This final action does not contain an unfunded mandate of $100 million as described in UMRA, 2 U.S.C. 1531-1538, and does not significantly or uniquely affect small governments. The action imposes no enforceable duty on any State, local, or Tribal governments or the private sector. This rule extends the deadline for compliance from July 17, 2025, to January 17, 2027.

F. Executive Order 13132: Federalism

This action does not have federalism implications. It will not have substantial direct effects on the states, on the relationship between the National Government and the states, or on the distribution of power and responsibilities among the various levels of government.

G. Executive Order 13175: Consultation and Coordination With Indian Tribal Governments

This action does not have Tribal implications as specified in Executive Order 13175. The rule will extend the deadline for compliance for regulated entities from July 17, 2025, to January 17, 2027. It does not have a substantial direct effect on one or more Indian Tribes, in that this action imposes no regulatory burdens on Tribes. Thus, Executive Order 13175 does not apply to this action.

H. Executive Order 13045: Protection of Children From Environmental Health Risks and Safety Risks

Executive Order 13045 directs Federal agencies to include an evaluation of the health and safety effects of the planned regulation on children in Federal health and safety standards and explain why the regulation is preferable to potentially effective and reasonably feasible alternatives. This action is not subject to Executive Order 13045 because it is not a significant regulatory action under section (3)(f)(1) of Executive Order 12866 and because the EPA does not believe the environmental health or safety risks addressed by this action present a disproportionate risk to children.

I. Executive Order 13211 Actions Concerning Regulations That Significantly Affect Energy Supply, Distribution, or Use

This action is not subject to Executive Order 13211 because it is not a significant regulatory action under Executive Order 12866.

J. National Technology Transfer and Advancement Act (NTTAA) and 1 CFR Part 51

This action does not involve technical standards; therefore, the NTTAA does not apply.

K. Congressional Review Act (CRA)

This action is subject to the CRA, 5 U.S.C. 801-808, and the EPA will submit a rule report to each House of the Congress and to the Comptroller General of the United States.

List of Subjects in 40 CFR Part 59

Environmental protection, Administrative practice and procedure, Aerosol coatings, Air pollution control, Intergovernmental relations, Reporting and recordkeeping requirements.

Lee Zeldin,
Administrator.

For the reasons stated in the preamble, the Environmental Protection Agency amends part 59 of title 40 of the Code of Federal Regulations as follows:

PART 59—NATIONAL VOLATILE ORGANIC COMPOUND EMISSION STANDARDS FOR CONSUMER AND COMMERCIAL PRODUCTS

1. The authority citation for part 59 continues to read as follows:

Authority: 42 U.S.C. 7414 and 7511b(e).

Subpart E—National Volatile Organic Compound Emission Standards for Aerosol Coatings

2. Amend § 59.502 by revising paragraphs (a) and (d) to read as follows:

§ 59.502 When do I have to comply with this subpart?

(a) Except as provided in § 59.509 and paragraphs (b) and (c) of this section, you must be in compliance with all provisions of this subpart by January 17, 2027.

* * * * *

(d) Until January 17, 2027, appendix A—table 1, appendix A—table 2A, appendix A—table 2B, appendix A—table 2C and the test methods listed in appendix A table 3 to subpart E of part 59 are applicable to this subpart. Prior to January 17, 2027, regulated entities may elect to use tables 1, 2A, 2B, and 2C. If a regulated entity elects to do so, it shall use the test methods specified in § 59.508 of this subpart. After January 17, 2027, tables 1, 2A, 2B, and 2C, and the test methods specified in § 59.508 of this subpart are applicable.

3. Amend § 59.505 by revising paragraph (h) to read as follows:

§ 59.505 How do I demonstrate compliance with the reactivity limits?

* * * * *

(h) Until January 17, 2027, the test methods listed in table 3 of appendix A to subpart E of part 59 are applicable to this subpart.

4. Amend § 59.509 by revising paragraph (g) to read as follows:

§ 59.509 Can I get a variance?

* * * * *

(g) Beginning on January 17, 2027, or once the notification/report template for this subpart has been available on the CEDRI website for six months, whichever date is later, submit the request for a variance with the information in paragraphs (a)(1) through (6) following the procedure specified in § 59.511(l).

5. Amend § 59.511 by revising paragraph (k) to read as follows:

§ 59.511 What notifications and reports must I submit?

* * * * *

(k) Beginning on January 17, 2027, or once the notification/report template for this subpart has been available on the CEDRI website for six months, whichever date is later, regulated entities shall submit all notifications, reports, and other information required in paragraphs (b) through (j) of this section following the procedure specified in paragraph (l) of this section.

* * * * *

6. Amend § 59.512 by revising paragraph (b) to read as follows:

§ 59.512 Addresses of EPA Regional Offices.

* * * * *

(b) Beginning on January 17, 2027, or once the notification/report template for this subpart has been available on the CEDRI website for six months, whichever date is later, regulated entities shall submit all notifications, reports, and other information required in § 59.511(b) through (j) following the procedure specified in § 59.511(l).

7. Revise the heading of appendix A to subpart E of part 59 to read as follows:

Appendix A to Subpart E of Part 59—In compliance with 40 CFR Part 59, Subpart E, the following standards will remain applicable prior to January 17, 2027.

8. Revise the heading of appendix A—table 1 to subpart E of part 59 to read as follows:

Appendix A—Table 1 to Subpart E of Part 59—Product-Weighted Reactivity Limits by Coating Category Applicable Prior to January 17, 2027

* * * * *

9. Revise the heading of appendix A—table 2A to subpart E of part 59 to read as follows:

Appendix A—Table 2A to Subpart E of Part 59—Reactivity Factors—Applicable Prior to January 17, 2027

* * * * *

10. Revise the heading of appendix A—table 2B to subpart E of part 59 to read as follows:

Appendix A—Table 2B to Subpart E of Part 59—Reactivity Factors for Aliphatic Hydrocarbon Solvent Mixtures—Applicable Prior to January 17, 2027

* * * * *

11. Revise the heading of appendix A—table 2C to subpart E of part 59 to read as follows:

Appendix A—Table 2C to Subpart E of Part 59—Reactivity Factors for Aromatic Hydrocarbon Solvent Mixtures—Applicable Prior to January 17, 2027

* * * * *

12. Revise the heading of appendix A—table 3 to subpart E of part 59 to read as follows:

Appendix A—Table 3 to Subpart E of Part 59—Methods—Applicable Prior to January 17, 2027

* * * * *

[FR Doc. 2025-12323 Filed 7-1-25; 8:45 am]

BILLING CODE 6560-50-P